Proclamation 10004 of March 31, 2020

National Sexual Assault Awareness and Prevention Month, 2020

By the President of the United States of America

A Proclamation

No person should ever have to endure the anguish and indignity of sexual assault. This horrific crime affects Americans of every age, ethnicity, and socioeconomic status. During National Sexual Assault Awareness and Prevention Month, we reaffirm our commitment to supporting survivors of sexual assault, encouraging strong criminal justice responses to these crimes, and ending the scourge of sexual violence in our homes and communities.

Sexual assault is a particularly egregious and dehumanizing form of violence. Even after physical injuries of a sexual assault have healed, emotional and mental trauma can persist. Survivors often struggle with lingering anxiety, fear, anger, shame, and depression. The devastating aftermath of sexual assault can also harm a survivor's relationships with their loved ones. My Administration has made combating sexual assault a top priority.

Last year, I signed an Executive Order establishing the Task Force on Missing and Murdered American Indians and Alaska Natives to address unacceptable acts of violence against Native Americans, particularly women and girls. Too often, sexual assaults are committed in conjunction with other forms of violence against women and girls in Indian Country. This Task Force is enhancing collaboration across the Federal Government to improve the ability of law enforcement and prosecutors to respond to new and unsolved cases in these communities and to ensure they receive vital health and human services. In addition, the Office on Violence Against Women and the Office for Victims of Crime within the Department of Justice (DOJ) are spearheading an initiative to ensure that sexual assault victims in Native and Tribal communities have access to high-quality medical care from trained Sexual Assault Forensic Examiners and other services they may need to heal and achieve justice.

DOJ is also providing grant funding to facilitate the analysis of thousands of sexual assault kits in crime laboratories across our Nation to identify criminals. The Department is also making sure that law enforcement officers, prosecutors, and victim advocates have the resources they need to support victims and bring offenders to justice. Further, DOJ and the Department of Health and Human Services have identified best practices in the collection and preservation of forensic evidence, as well as in the care and treatment of survivors of sexual assault.

Human trafficking has become rampant throughout the world, and often includes sexual assault. In 2019 alone, the National Human Trafficking Hotline received reports of nearly 12,000 cases of potential human trafficking in the United States, identifying more than 25,000 victims. More than 65 percent of these cases referenced women, and more than one in five referenced children. My Administration will use every tool at our disposal to dismantle this global problem, deliver justice, and ensure the safety and well-being of the survivors. That is why I signed an Executive Order on Combating Human Trafficking and Online Child Exploitation in the United States, which prioritizes the Federal Government's resources to prosecute offenders, assist victims, and provide prevention education to combat human trafficking and online sexual exploitation of children. I also signed into law legislation authorizing $430 million to fight sex and labor trafficking, and my fiscal year 2021 budget request to Congress seeks an increase of $42.5 million to address human trafficking. And importantly, we are holding these foreign governments that fail to address human trafficking to account by imposing restrictions on foreign assistance.

This month, we pause to recognize the devastation caused by sexual assault and to recommit ourselves to eliminating this atrocious crime. We are grateful to the professionals serving in healthcare, victim and human services, law enforcement, and criminal justice for their steadfast resolve against sexual assault while also caring for and supporting survivors. As a Nation, we stand with the courageous men, women, and children who have survived sexual assault and pledge to use every tool at our disposal to help prevent Americans from ever enduring the trauma of sexual assault.

NOW, THEREFORE, I, DONALD J. TRUMP, President of the United States of America, by virtue of the authority vested in me by the Constitution and the laws of the United States, do hereby proclaim April 2020 as National Sexual Assault Awareness and Prevention Month. I urge all Americans, families, law enforcement personnel, healthcare providers, and community and faith-based organizations to support survivors of sexual assault and work together to prevent these crimes in their communities.

IN WITNESS WHEREOF, I have hereunto set my hand this thirty-first day of March, in the year of our Lord two thousand twenty, and of the Independence of the United States of America the two hundred and forty-fourth.

[FR Doc. 2020-07308

Filed 4-3-20; 8:45 am]

Billing code 3295-F0-P